FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 17, 2020.

A. Federal Reserve Bank of Chicago (Colette A. Fried, Assistant Vice President) 230 South LaSalle Street, Chicago, Illinois 60690-1414:

1. Songer Farms, Inc., David A. Songer, both of Veedersburg, Indiana; together with Jahn S. Songer, Beverly D. Songer and minor children, all of Veedersburg, Indiana; Tracy Songer Wright, Columbus, Indiana, Barbara L. Songer, Rotonda West, Florida; Suzanne N. Kunkle and Aaron H. Kunkle, both of Indianapolis, Indiana; and Marci S. Roark, Navarre, Florida; to join Stephen A. Songer, Veedersburg, Indiana, and form the Songer Family Control Group, a group acting in concert to retain 25 percent or more of the voting shares of Veedersburg Bank Corporation, and thereby indirectly retain 25 percent or more of the voting shares of CentreBank, both of Veedersburg, Indiana.

2. The Theodore G. Saltzman Jr. Bank Trust, Theodore Saltzman as trustee, both of Dakota Dunes, South Dakota; to replace the Saltzman Family Control group and become members of a group acting in concert to retain 25 percent or more of the voting shares of Pioneer Development Company and indirectly retain 25 percent or more of the voting shares of Pioneer Bank, both of Sergeant Bluff, Iowa. In addition, The Sundae M. Haggerty Irrevocable Bank Trust, Shennen S.C. Saltzman, as trustee, The Shennen S.C. Saltzman Bank Trust, Shennen Saltzman, as trustee, all of Dakota Dunes, South Dakota; The Shennen S.C. Saltzman Irrevocable Bank Trust, Sundae Haggerty, as trustee, and The Sundae M. Haggerty Bank Trust, Sundae Haggerty, as trustee, all of South Sioux City, Nebraska; to replace the Saltzman Family Control group and become members of a group acting in concert to acquire 25 percent or more of the voting shares of Pioneer Development Company and indirectly acquire 25 percent or more of the voting shares of Pioneer Bank.

B. Federal Reserve Bank of Kansas City (Dennis Denney, Assistant Vice President) 1 Memorial Drive, Kansas City, Missouri 64198-0001:

1. The 2017 Porter Loomis Legacy Trust, John Porter Loomis, as trustee and both as members of the Loomis Family Group, both of Pratt, Kansas, The Adele Krey Loomis Revocable Trust, Anne Marie Sadowski Loomis, both of Pratt, Kansas, and Adele Krey Loomis, as co-trustees, Stamford, Connecticut, The KLW Stock Trust, Linda M. Loomis, both of Iuka, Kansas, and Katherine L. Work, as co-trustees, La Canada Flintridge, California, The Margaret P. Hellmuth Stock Trust, Linda M. Loomis, both of Iuka, Kansas and Margaret P. Hellmuth, as co-trustees, Glencoe, Illinois, and The Victoria K. Thompson Stock Trust, Iuka, Kansas, Linda M. Loomis and Victoria K. Thompson, as co-trustees, Santa Cruz, California; to become members of the Loomis Family Group, a group acting in concert to acquire voting shares of The Peoples Bankshares Ltd. and thereby indirectly acquire The Peoples Bank, both in Pratt, Kansas. In addition, The Linda M. Loomis Revocable Trust, Linda M. Loomis, as trustee, The Joseph F. Loomis Revocable Trust, Joseph F. Loomis and Linda M. Loomis, co-trustees, all of Iuka, Kansas, The John Porter Loomis Revocable Trust, J. Porter Loomis and Anne Marie Sadowski Loomis, as co-trustees, all of Pratt, Kansas, to become members of the Loomis Family Group, a group acting in concert to retain voting shares and acquire additional voting shares of Peoples Bankshares Ltd. and thereby indirectly retain voting shares and acquire additional voting shares of the Peoples Bank. Finally, Anne Marie Sadowski Loomis Trust, Anne Marie Sadowski Loomis and John Porter Loomis, as co-trustees, to become members of the Loomis Family Group and retain voting shares of Peoples Bankshares Ltd. and thereby indirectly retain voting shares of the Peoples Bank.

Board of Governors of the Federal Reserve System, October 28, 2020.
Michele Taylor Fennell,
Deputy Associate Secretary of the Board.

[FR Doc. 2020-24183 Filed 10-30-20; 8:45 am]

BILLING CODE P